DEPARTMENT OF ENERGY

Federal Energy Regulatory Commission

[Docket No. EG00-76-000, et al.]

Black River Limited Partnership, et al.; Electric Rate and Corporate Regulation Filings

February 11, 2000.

Take notice that the following filings have been made with the Commission:

1. Black River Limited Partnership

[Docket No. EG00-76-000]

Take notice that on February 3, 2000, Black River Limited Partnership (Applicant) filed with the Federal Energy Regulatory Commission an amendment to the Application for Determination of Exempt Wholesale Generator Status pursuant to Part 365 of the Commission's Regulations and Section 32 of the Public Utility Holding Company Act of 1935, as amended (PUHCA), filed on January 7, 2000 (January 7th Application).

Applicant amends its January 7th Application to explain how Applicant satisfies the “and selling” requirement, as set forth in Section 32(a)(1) of PUHCA. Applicant further amends the January 7th Application to incorporate by reference Applicant's application under Section 203 of the Federal Power Act (FPA), filed with the Commission on January 31, 2000 (January 31st Application) for Commission approval of certain sale and lease transactions pursuant to which Applicant will lease the Fort Drum Project to Black River Power, LLC. Applicant submits that upon the consummation of the transactions described in the January 31st Application, Applicant will fall squarely within Commission precedent finding that a lease of a facility is a sale of electric energy at wholesale for purposes of Section 32(a)(1) of PUHCA.

Copies of the Amendment have been served upon the New York Public Service Commission, the North Carolina Utilities Commission, the South Carolina Public Service Commission and the Securities and Exchange Commission.

Comment date: March 3, 2000, in accordance with Standard Paragraph E at the end of this notice. The Commission will limit its consideration of comments to those that concern the adequacy or accuracy of the application.

2. San Joaquin Cogen Limited

[Docket No. EG00-91-000]

Take notice that on February 1, 2000, San Joaquin Cogen Limited (Applicant), a Texas limited partnership, filed with the Federal Energy Regulatory Commission an Application for Determination of Exempt Wholesale Generator Status pursuant to Part 365 of the Commission's Regulations and Section 32 of the Public Utility Holding Company Act of 1935, as amended. Applicant owns the San Joaquin Cogeneration Project, a 49.9 MW natural gas fired cogeneration facility in Lathrop, California (the Facility) and will make sales of electric energy and capacity at wholesale from that Facility.

Copies of the application have been served upon the California Public Utilities Commission and the Securities and Exchange Commission.

Comment date: March 3, 2000, in accordance with Standard Paragraph E at the end of this notice. The Commission will limit its consideration of comments to those that concern the adequacy or accuracy of the application.

3. Compañía Eléctrica Central Bulo Bulo SA

[Docket No. EG00-92-000]

Take notice that on February 3, 2000, Compañía Eléctrica Central Bulo Bulo SA (the Applicant) whose address is Compañía Eléctrica Central Bulo Bulo S.A., C/o Compañia Boliviana de Energía Eléctrica S.A.—Bolivian Power Company Limited, Avenida Hernando Siles No. 5635, La Paz, Bolivia, filed with the Federal Energy Regulatory Commission an application for determination of exempt wholesale generator status pursuant to Part 365 of the Commission's regulations.

The Applicant states that it will be engaged directly and exclusively in the business of owning and/or operating an electric generating facility located in the Republic of Bolivia and selling electric energy at wholesale. The Applicant requests a determination that the Applicant is an exempt wholesale generator under Section 32(a)(1) of the Public Utility Holding Company Act of 1935.

Comment date: March 3, 2000, in accordance with Standard Paragraph E at the end of this notice. The Commission will limit its consideration of comments to those that concern the adequacy or accuracy of the application.

4. Sithe Power International Ltd.

[Docket No. EG00-93-000]

Take notice that on February 3, 2000, Sithe Power International Ltd. (Sithe Power International), c/o Trident Trust Company (Cayman) Limited, One Capital Place, P.O. Box 847, Grand Cayman, Cayman Islands, filed with the Federal Energy Regulatory Commission an application for determination of exempt wholesale generator status pursuant to Part 365 of the Commission's regulations.

Sithe Power International is organized under the laws of the Cayman Islands, and will be engaged, directly or indirectly, and exclusively in owning or both owning and operating a gas-fired electric generating facility, and selling the facility's energy at wholesale. The facility consists of two 115 MW gas turbines, and one approximately 240 MW steam turbine and auxiliary facilities. The Facility is located in Rades, Tunis, Tunisia.

Comment date: March 3, 2000, in accordance with Standard Paragraph E at the end of this notice. The Commission will limit its consideration of comments to those that concern the adequacy or accuracy of the application.

5. Intercoast Power Marketing Company

[Docket No. ER94-6-015]

Take notice that on February 4, 2000, InterCoast Power Marketing Company filed their quarterly report for the third and fourth quarters of 1999, for information only.

6. Williams Energy Marketing & Trading Company; Western Power Services, Inc.; New Millennium Energy Corporation; GreenMountain.com; Griffin Energy Marketing, L.L.C.; Sithe Power Marketing, Inc.; ENMAR Corporation; and Hafslun Energy Trading

[Docket Nos. ER95-305-022, ER95-748-019, ER97-2681-008, ER99-2489-002, ER97-4168-010, ER98-107-010, ER99-254-005, and ER98-2535-003]

Take notice that on February 2, 2000, the above-mentioned power marketers filed quarterly reports with the Commission in the above-mentioned proceedings for information only.

7. Statoil Energy Trading, Inc.; ProGas Power, Inc.; Northern/AES Energy, LLC; Power Providers Inc.; Enron Energy Services, Inc.; OGE Energy Resources, Inc.; Bonneville Fuels Management Corporation; Strategic Energy Management Corp.; ACN Power, Inc.; Strategic Energy L.L.C.; Reliant Energy Services, Inc.; Enron Power Marketing, Inc.; North American Energy Conservation, Inc.; TXU Energy Services; Statoil Energy Service, Inc.; Clinton Energy Management Services, Inc.; CinCap V, LLC; British Columbia Power Exchange Corporation; CinCap IV, LLC, and Cinergy Capital & Trading, Inc.

[Docket Nos. ER94-964-025, ER95-968-011, ER98-445-008, ER96-2303-014, ER98-13-014, ER97-4345-012, ER96-659-016, ER00-167-001, ER98-4685-004, ER96-3107-013, ER94-1247-023, ER94-24-034, ER94-152-024, ER99-3333-002, ER97-4381-005, ER98-3934-007, ER98-4055-007, ER97-4024-011, ER98-421-010, and ER93-730-017]

Take notice that on February 1, 2000, the above-mentioned power marketers filed quarterly reports with the Commission in the above-mentioned proceedings for information only.

8. Avista Energy, Inc.; Vitol Gas & Electric LLC; Alternate Power Source, Inc.; Occidental Power Marketing, L.P., and Pacific Energy & Development Corporation

[Docket Nos. ER96-2408-017, ER94-155-028, ER96-1145-014, ER99-3665-002, and ER98-1824-008]

Take notice that on February 7, 2000, the above-mentioned power marketers filed quarterly reports with the Commission in the above-mentioned proceedings for information only.

9. MIECO, Inc. and MIECO, Inc.

[Docket Nos. ER98-51-008 and ER98-51-009]

Take notice that on February 8, 2000, the above-mentioned power marketer filed quarterly reports with the Commission in the above-mentioned proceedings for information only.

10. Southwood 2000, Inc.; Hinson Power Company and DTE Energy Marketing, Inc.

[Docket Nos. ER98-2603-003, ER95-1314-019 and ER99-3368-002]

Take notice that on February 4, 2000, the above-mentioned power marketers filed quarterly reports with the Commission in the above-mentioned proceedings for information only.

11. Lakeside Energy Services, LLC; TransAlta Energy Marketing (U.S.) Inc.; Duke Energy Marketing Corp. and Dynegy Power Marketing, Inc.

[Docket Nos. ER99-505-004, ER98-3184-007, ER96-109-021 and ER94-968-030]

Take notice that on February 3, 2000, the above-mentioned power marketers filed quarterly reports with the Commission in the above-mentioned proceedings for information only.

12. Williams Generation Company-Hazelton; Sithe Mystic LLC; Sithe Edgar LLC; Sithe New Boston LLC; Sithe Framingham LLC; Sithe West Medway LLC; Sithe Wyman LLC; FirstEnergy Corp.; Long Beach Generation LLC and El Segundo Power, LLC

[Docket No. ER00-1484-000, and ER00-1485-000 ER00-1486-000, ER00-1488-000 and ER00-1489-000]

Take notice that on February 2, 2000, the above-mentioned affiliated power producers and/or public utilities filed their quarterly reports for the quarter ending December 31, 1999.

Comment date: March 2, 2000, in accordance with Standard Paragraph E at the end of this notice.

13. Northern Indiana Public Service Company

[Docket No. ER00-1497-000]

Take notice that on February 3, 2000, Northern Indiana Public Service Company filed their quarterly report for the quarter ending December 31, 1999.

Comment date: March 2, 2000, in accordance with Standard Paragraph E at the end of this notice.

14. Genesee Power Station L.P.; Great Bay Power Corporation; The Cleveland Electric Illuminating Company; Rocky Road Power, LLC and Sunbury Generation, LLC

[Docket Nos. ER00-1525-000, ER00-1539-000, ER00-1541-000, ER00-1542-000 and ER00-1543-000]

Take notice that on February 4, 2000, the above-mentioned affiliated power producers and/or public utilities filed their quarterly reports for the quarter ending December 31, 1999.

Comment date: March 2, 2000, in accordance with Standard Paragraph E at the end of this notice.

15. Niagara Energy & Steam Co., Inc.

[Docket No. ER00-1530-000]

Take notice that on February 1, 2000, Niagara Energy & Steam Co., Inc. filed a letter regarding a corporate name change that was effective February 1, 2000. The new name is “Energy & Steam Co., Inc.”

Comment date: February 22, 2000, in accordance with Standard Paragraph E at the end of this notice.

16. PJM Interconnection, L.L.C.

[Docket No. ER00-1531-000]

Take notice that on February 4, 2000, PJM Interconnection, L.L.C. (PJM), tendered for filing one signature page of Agway Energy Services-PA Inc. to the Reliability Assurance Agreement among Load Serving Entities in the PJM Control Area (RAA), and an amended Schedule 17 listing the parties to the RAA.

PJM states that it served a copy of its filing on all parties to the RAA, including Agway Energy Services, Inc.-PA and each of the electric regulatory commissions within the PJM Control Area.

Comment date: February 25, 2000, in accordance with Standard Paragraph E at the end of this notice.

17. PJM Interconnection, L.L.C

[Docket No. ER00-1532-000]

Take notice that on February 4, 2000, PJM Interconnection, L.L.C. (PJM), tendered for filing one Interconnection Service Agreement with Energy Unlimited, Inc.

Copies of this filing were served upon Energy Unlimited, Inc.

Comment date: February 25, 2000, in accordance with Standard Paragraph E at the end of this notice.

18. New York Independent System Operator, Inc.

[Docket No. ER00-1533-000]

Take notice that on February 4, 2000, the New York Independent System Operator, Inc. (NYISO), tendered for filing a revised set of Temporary Extraordinary Procedures for Correcting Market Design Flaws and Addressing Transitional Abnormalities. The NYISO requests an effective date of February 17, 2000 and waiver of the Commission's notice requirements.

A copy of this filing was served upon all persons on the Commission's official service list in Docket No. ER99-3508-000, on those parties who have executed service agreements under the NYISO Open Access Transmission Tariff or under the New York Independent System Operator Market Administration and Control Area Services Tariff and on the electric utility regulatory agencies in New York, New Jersey and Pennsylvania.

Comment date: February 25, 2000, in accordance with Standard Paragraph E at the end of this notice.

19. Ocean State Power II

[Docket No. ER00-1534-000]

Take notice that on February 4, 2000, Ocean State Power II (Ocean State II), tendered for filing the following supplements (the Supplements) to its rate schedules with the Federal Energy Regulatory Commission (Commission):

Supplements No. 23 to Rate Schedule FERC No. 5

Supplements No. 25 to Rate Schedule FERC No. 6

Supplements No. 23 to Rate Schedule FERC No. 7

Supplements No. 24 to Rate Schedule FERC No. 8

The Supplements to the rate schedules request approval of Ocean State II's proposed rate of return on equity for the period beginning on February 1, 2000, the requested effective date of the Supplements.

Copies of the Supplements have been served upon, among others, Ocean State II's power purchasers, the Massachusetts Department of Public Utilities, and the Rhode Island Public Utilities Commission.

Comment date: February 25, 2000, in accordance with Standard Paragraph E at the end of this notice.

20. Ocean State Power

[Docket No. ER00-1535-000]

Take notice that on February 4, 2000, Ocean State Power (Ocean State), tendered for filing the following supplements (the Supplements) to its rate schedules with the Federal Energy Regulatory Commission (Commission):

Supplements No. 24 to Rate Schedule FERC No. 1

Supplements No. 23 to Rate Schedule FERC No. 2

Supplements No. 21 to Rate Schedule FERC No. 3

Supplements No. 23 to Rate Schedule FERC No. 4

The Supplements to the rate schedules request approval of Ocean State's proposed rate of return on equity for the period beginning on February 1, 2000, the requested effective date of the Supplements.

Copies of the Supplements have been served upon, among others, Ocean State's power purchasers, the Massachusetts Department of Public Utilities, and the Rhode Island Public Utilities Commission.

Comment date: February 25, 2000, in accordance with Standard Paragraph E at the end of this notice.

21. PP&L, Inc.

[Docket No. ER00-1536-000]

Take notice that on February 4, 2000, PP&L, Inc.(PP&L) filed a Service Agreement dated January 31, 2000 with Koch Energy Trading, Inc. (Koch) under Tariff, Revised Volume No. 5. The Service Agreement adds Koch as an eligible customer under the Tariff.

PP&L requests an effective date of February 4, 2000 for the Service Agreement.

PP&L states that copies of this filing have been supplied to Koch and to the Pennsylvania Public Utility Commission.

Comment date: February 25, 2000, in accordance with Standard Paragraph E at the end of this notice.

22. PP&L, Inc.

Docket No. ER00-1537-000]

Take notice that on February 4, 2000, PP&L, Inc. (PP&L), tendered for filing a Service Agreement dated January 10, 2000 with Sempra Energy Trading Corp. (Sempra) under PP&L's Market-Based Rate and Resale of Transmission Rights Tariff, FERC Electric Tariff, Revised Volume No. 5. The Service Agreement adds Sempra as an eligible customer under the Tariff.

PP&L requests an effective date of February 4, 2000 for the Service Agreement.

PP&L states that copies of this filing have been supplied to Sempra and to the Pennsylvania Public Utility Commission.

Comment date: February 25, 2000, in accordance with Standard Paragraph E at the end of this notice.

23. Allegheny Energy Service Corporation, on behalf of Monongahela Power Company; The Potomac Edison Company, and West Penn Power Company (Allegheny Power)

[Docket No. ER00-1538-000]

Take notice that on February 4, 2000, Allegheny Energy Service Corporation on behalf of Monongahela Power Company, The Potomac Edison Company and West Penn Power Company (Allegheny Power), tendered for filing Supplement No. 70 to add American Municipal Power-Ohio, Inc. to Allegheny Power Open Access Transmission Service Tariff which has been accepted for filing by the Federal Energy Regulatory Commission in Docket No. ER96-58-000.

The proposed effective date under the Service Agreement is February 1, 2000 or a date ordered by the Commission.

Copies of the filing have been provided to the Public Utilities Commission of Ohio, the Pennsylvania Public Utility Commission, the Maryland Public Service Commission, the Virginia State Corporation Commission, and the West Virginia Public Service Commission.

Comment date: February 25, 2000, in accordance with Standard Paragraph E at the end of this notice.

24. Pittsfield Generating Company, L.P.; Pacific Northwest Generating Cooperative and Front Range Energy Associates, LLC

[Docket Nos. ER00-1544-000, ER00-1545-000, and ER00-1546-000]

Take notice that on February 7, 2000, the above-mentioned affiliated power producers and/or public utilities filed their quarterly reports for the quarter ending December 31, 1999.

Comment date: March 2, 2000, in accordance with Standard Paragraph E at the end of this notice.

25. Arizona Public Service Company

[Docket No. ER00-1547-000]

Take notice that on February 7, 2000, Arizona Public Service Company (APS), tendered for filing a revised Service Agreement to provide Network Integration Transmission Service under APS' Open Access Transmission Tariff to the Navajo Tribal Utility Authority (NTUA) with an effective date of June 1, 1999 pursuant to a Settlement Agreement between the Parties.

A copy of this filing has been served on the parties of the official service lists.

Comment date: February 28, 2000, in accordance with Standard Paragraph E at the end of this notice.

26. Public Service Company of New Mexico

[Docket No. ER00-1548-000]

Take notice that on February 7, 2000, Public Service Company of New Mexico (PNM) submitted for filing executed service agreements, for point-to-point transmission service under the terms of PNM's Open Access Transmission Service Tariff, with Sierra Pacific Energy Company (2 agreements, for Non-Firm and Short-Term Firm Service, dated January 18, 2000); with PP&L Montana, LLC (2 agreements, for Non-Firm and Short-Term Firm Service, dated February 2, 2000); and with Tri-State Generation and Transmission Association, Inc. (2 agreements, for Non-Firm and Short-Term Firm Service, dated February 2, 2000). PNM's filing is available for public inspection at its offices in Albuquerque, New Mexico.

Comment date: February 28, 2000, in accordance with Standard Paragraph E at the end of this notice.

27. Western Resources, Inc.

[Docket No. ER00-1549-000]

Take notice that on February 7, 2000, Western Resources, Inc. tendered for filing a change to its FERC Electric Tariff, First Revised Volume No. 5. Western Resources states that the change is to deny network integration transmission service under Western Resources' transmission tariff when such service is available through the Southwest Power Pool, Inc., regional transmission service tariff.

Notice of the filing has been served upon the Kansas Corporation Commission.

Comment date: February 28, 2000, in accordance with Standard Paragraph E at the end of this notice.

28. Virginia Electric and Power Company

[Docket No. ER00-1550-000]

Take notice that on February 7, 2000, Virginia Electric and Power Company (Virginia Power) tendered for filing the following:

1. Service Agreement for Firm Point-to-Point Transmission Service by Virginia Electric and Power Company to ACN Power, Inc.

2. Service Agreement for Non-Firm Point-to-Point Transmission Service by Virginia Electric and Power Company to ACN Power, Inc.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of February 7, 2000, the date of filing of the Service Agreements.

Copies of the filing were served upon ACN Power, Inc., the Virginia State Corporation Commission, and the North Carolina Utilities Commission.

Comment date: February 28, 2000, in accordance with Standard Paragraph E at the end of this notice.

29. Ameren Services Company

[Docket No. ER00-1551-000]

Take notice that on February 7, 2000, Ameren Services Company (ASC), the transmission provider, tendered for filing Service Agreements for Long-Term Firm Point-to-Point Transmission Services between ASC and Cargill-Alliant Energy Trading Group and Tenaska Power Services (the Parties). ASC asserts that the purpose of the Agreements is to permit ASC to provide transmission service to the parties pursuant to Ameren's Open Access Transmission Tariff filed in Docket No. ER 96-677-004.

Comment date: February 28, 2000, in accordance with Standard Paragraph E at the end of this notice.

30. Pacific Gas and Electric Company

[Docket No. ER00-1552-000]

Take notice that on February 7, 2000, Pacific Gas and Electric Company (PG&E), tendered for filing a Generator Special Facilities Agreement (GSFA) between PG&E and La Paloma Generating Company, LLC (La Paloma) providing for Special Facilities and the parallel operation of La Paloma's generating facility and the PG&E-owned electric system.

This GSFA permits PG&E to recover the ongoing costs associated with owning, operating and maintaining the Special Facilities including the cost of any alterations and additions. As detailed in the GSFA, PG&E proposes to charge La Paloma a monthly Cost of Ownership Charge equal to the rate for transmission-level, customer-financed facilities in PG&E's currently effective Electric Rule 2, as filed with the California Public Utilities Commission (CPUC). PG&E's currently effective rate of 0.31% for transmission-level, customer-financed Special Facilities is contained in the CPUC's Advice Letter 1960-G/1587-E, effective August 5, 1996, a copy of which is included in this filing. PG&E has requested permission to use automatic rate adjustments whenever the CPUC authorizes a new Electric Rule 2 Cost of Ownership Rate for transmission-level, customer-financed Special Facilities but cap the rate at 0.58% per month.

Copies of this filing have been served upon La Paloma and the CPUC.

Comment date: February 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-3868 Filed 2-17-00; 8:45 am]

BILLING CODE 6717-01-P